DEPARTMENT OF THE INTERIOR

National Park Service

[2253-665]

Notice of Inventory Completion: Sheboygan County Historical Museum, Sheboygan, WI

AGENCY: National Park Service, Interior.

ACTION: Notice.

SUMMARY: The Sheboygan County Historical Museum has completed an inventory of human remains, in consultation with the appropriate Indian tribes, and has determined that there is no cultural affiliation between the remains and any present-day Indian tribe. Representatives of any Indian tribe that believes itself to be culturally affiliated with the human remains may contact the Sheboygan County Historical Museum. Disposition of the human remains to the Indian tribes stated below may occur if no additional requestors come forward.

DATES: Representatives of any Indian tribe that believes it has a cultural affiliation with the human remains should contact the Sheboygan County Historical Museum at the address below by May 21, 2012.

ADDRESSES: Tamara Lange, Collection Coordinator/Registrar, Sheboygan County Historical Museum, 3110 Erie Avenue, Sheboygan, WI 53081, telephone (920) 458-1103.

SUPPLEMENTARY INFORMATION: Notice is here given in accordance with the Native American Graves Protection and Repatriation Act (NAGPRA), 25 U.S.C. 3003, of the completion of an inventory of human remains under the control of the Sheboygan County Historical Museum, Sheboygan, Wisconsin. The human remains are believed to have been removed from an unknown location in or adjoining to Sheboygan County, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Sheboygan County Historical Museum professional staff in consultation with representatives of the Bad River Band of the Lake Superior Tribe of Chippewa Indians of the Bad River Reservation, Wisconsin; Bois Forte Band (Nett Lake) of the Minnesota Chippewa Tribe, Minnesota; Citizen Potawatomi Nation, Oklahoma; Flandreau Santee Sioux Tribe of South Dakota; Fond du Lac Band of the Minnesota Chippewa Tribe, Minnesota; Forest County Potawatomi Community, Wisconsin; Grand Portage Band of the Minnesota Chippewa Tribe, Minnesota; Hannahville Indian Community, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe, Minnesota; Lower Sioux Indian Community in the State of Minnesota; Menominee Indian Tribe of Wisconsin; Mille Lacs Band of the Minnesota Chippewa Tribe, Minnesota; Oneida Tribe of Indians of Wisconsin; Prairie Band of Potawatomi Nation, Kansas; Prairie Island Indian Community in the State of Minnesota; Red Cliff Band of Lake Superior Chippewa Indians of Wisconsin; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Sokaogon Chippewa Community, Wisconsin; Spirit Lake Tribe, North Dakota; St. Croix Chippewa Indians of Wisconsin; Stockbridge Munsee Community, Wisconsin; Upper Sioux Community, Minnesota; White Earth Band of Minnesota Chippewa Tribe, Minnesota; and Winnebago Tribe of Nebraska (herein referred to as “The Tribes”).

History and Description of the Remains

At an unknown date between 1899 and 1917, human remains representing, at minimum, one individual were removed from a site believed to have been in or adjoining to Sheboygan County, WI, by Dr. Alphonse J. Gerend. At least a portion of Dr. Gerend's collection was held at the Public Library in Sheboygan with the intention that the items be on exhibit there until a museum or other appropriate gallery was established in the city. At some time following the establishment of the Sheboygan County Historical Society in 1923, the Gerend Collection, including the human remains, was transferred to the custody of the Sheboygan County Historical Society & Museum. The exact circumstances or date of the transfer are unknown. Later efforts by staff at the Museum to inventory Dr. Gerend's collection included a 1994 inventory where the bone was misclassified as a potsherd (SCHM Object Number 3240.126). A subsequent inventory in the fall of 2009 uncovered the misidentification. The human remains consist of a single cranial fragment. No known individuals were identified. No associated funerary objects are present.

Determinations Made by the Sheboygan County Historical Museum

Officials of the Sheboygan County Historical Museum have determined that:

• Based upon non-destructive physical analysis and the history and collecting practices of the donor (Dr. Alphonse Gerend), the human remains are Native American.

• Pursuant to 25 U.S.C. 3001(2), a relationship of shared group identity cannot be reasonably traced between the Native American human remains and any present-day Indian tribe.

• According to final judgments of the Indian Claims Commission, the land from which the Native American human remains were removed is the aboriginal land of The Tribes.

• Multiple lines of evidence, including treaties, Acts of Congress, and Executive Orders, indicate that the land from which the Native American human remains were removed is the aboriginal land of The Tribes.

• Other credible lines of evidence indicate that the land from which the Native American human remains were removed is the aboriginal land of The Tribes.

• Pursuant to 25 U.S.C. 3001(9), the human remains described in this notice represent the physical remains of one individual of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact Tamara Lange, Collection Coordinator/Registrar, Sheboygan County Historical Museum, 3110 Erie Avenue, Sheboygan, WI 53081, telephone (920) 458-1103, before May 21, 2012. Disposition of the human remains to The Tribes may proceed after that date if no additional requestors come forward.

The Sheboygan County Historical Museum is responsible for notifying The Tribes that this notice has been published.

Dated: April 12, 2012.
David Tarler,
Acting Manager, National NAGPRA Program.

[FR Doc. 2012-9467 Filed 4-18-12; 8:45 am]

BILLING CODE 4312-50-P